DEPARTMENT OF COMMERCE

National Institute of Standards and Technology

Work Group on Alternative Test Methods for Commercial Measuring Devices

AGENCY: National Institute of Standards and Technology, Commerce.

ACTION: Notice.

SUMMARY: The National Institute of Standards and Technology (NIST) is forming a Work Group (WG) to examine alternative methods for testing the accuracy of commercial measuring devices including, but not limited to retail motor-fuel dispensers. The WG will investigate the current methodology and standards (e.g., neck-type volumetric field standards and associated test procedures) widely used by weights and measures officials and service companies to test commercial measuring devices as well as proposed alternatives to ensure that the methodologies and standards facilitate measurements that are traceable to the International System of Units (SI). WG membership is open to any interested party. This notice also summarizes key issues to be considered by this WG.

DATES: An initial WG meeting will be held on Tuesday, April 24, 2012, from 10 a.m. to 5 p.m. Subsequent meeting dates will be determined based on the concurrence of the WG members.

ADDRESSES: An initial meeting of the WG will be at NIST, 100 Bureau Drive, Gaithersburg, MD 20899. Subsequent locations for WG meetings may include NIST as well as sites suggested by WG members offering to host meetings. WG meetings will also be conducted via Web conferencing. Please note admittance instructions under the SUPPLEMENTARY INFORMATION section of this notice.

FOR FURTHER INFORMATION CONTACT: Ms. Carol Hockert, Chief, NIST, Office of Weights and Measures, 100 Bureau Drive, Stop 2600, Gaithersburg, MD 20899-2600. You may also contact Ms. Hockert by telephone (301) 975-5507 or by email at Carol.Hockert@nist.gov. Please contact Ms. Hockert for information on upcoming meetings.

SUPPLEMENTARY INFORMATION: The formation of this WG and its associated meetings is intended to bring together government officials and representatives of business, industry, trade associations, and consumer organizations on the subject of standards and test procedures used in the testing of commercial measuring devices by regulatory officials and service companies. NIST participates to promote uniformity among the states in laws, regulations, methods, and testing equipment that comprises the regulatory control of commercial weighing and measuring devices and other trade and commerce issues.

Included among the topics to be discussed by the WG for current and proposed device technologies used in testing commercial measuring devices are: metrology laboratory standards and test procedures; uncertainties; measurement traceability; tolerances and other technical requirements for commercial measuring devices; existing standards for testing equipment; field implementation; data analysis; field test procedures; field enforcement issues; training at all levels; and other relevant issues identified by the WG. WG recommendations may result in the revision of current standards or the development of new standards for testing equipment, including documents such as the NIST Handbook 105 Series for field standards; NIST Handbook 44, Specifications, Tolerances, and Technical Requirements for Weighing and Measuring Devices; and NIST Examination Procedure Outlines, as well as proposed changes to requirements and testing procedures for commercial measuring devices.

All visitors to the NIST site are required to pre-register to be admitted. Anyone wishing to attend this meeting must register by close of business Tuesday, April 17, 2012, in order to attend. Please submit your full name, email address, and phone number to Ms. Hockert. Non-U.S. citizens must also submit their country of citizenship, title, and employer/sponsor. Ms. Hockert's email address is carol.hockert@nist.gov and her phone number is (301) 975-5507.

Dated: March 16, 2012.
Willie E. May,
Associate Director for Laboratory Programs.

[FR Doc. 2012-7224 Filed 3-23-12; 8:45 am]

BILLING CODE 3510-13-P